DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before February 18, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on January 8, 2025.
Donald P. Burger,
Chief, General Approvals and Permits Branch.

Special Permits Data
Application No. | Applicant | Regulation(s) affected | Nature of the special permits thereof
21892-N | Electronic Fluorocarbons, LLC | 173.304a(a) | To authorize the transportation in commerce of anhydrous ammonia in DOT 3AAX cylinders. (modes 1, 2, 3).
21893-N | Bhiwadi Cylinders Private Limited | 173.304(a) | To authorize the transportation in commerce of Class 2 gases in DOT 2Q Variation 2 inner receptacles. (modes 1, 3, 4, 5).
21896-N | Caterpillar Inc | 172.101(j), 173.185(a)(1) | To authorize the transportation in commerce of prototype lithium batteries exceeding 35 kg via cargo-only aircraft. (mode 4).
21898-N | Mercedes-Benz Ag | 173.309(c)(4) | To authorize the transportation in commerce of Fire Extinguishers, UN1044 that do not conform to the requirements of 49 CFR 173.309. (modes 1, 2, 3, 4, 5).
21899-N | Amtrol Inc | 173.302(a)(1), 173.306(g)(1) | To authorize the transportation in commerce of non-DOT specification fully wrapped fiber-reinforced plastic composite cylinders with an outside diameter exceeding 24” in outside diameter containing certain non-flammable and non-toxic gases. (modes 1, 2, 3).
21901-N | Versum Materials US, LLC | 173.301(c), 173.301(f) | To authorize the transportation in commerce of DOT-3AA cylinders containing hazardous materials without pressure relief devices. (modes 1, 2, 3).
21903-N | Weldship LLC | 180.205(c)(3) | To authorize the derating of the service pressure of one (1) DOT 3AAX cylinder for transportation in commerce of hazardous materials. (mode 1).
21907-N | BMW Manufacturing Co., LLC | 173.185(b)(3)(i) | To authorize the transportation in commerce of lithium batteries in alternative packaging. (modes 1, 2).
21908-N | Zipline International Inc | 171.22(e)(4), 172.301(c), 172.101(j) | To authorize the transportation of forbidden articles containing flammable gases via cargo-only aircraft. (mode 4).
21909-N | Stericycle, Inc | 172.200 | To authorize the transportation in commerce of certain Division 6.2 materials without requiring shipping papers. (mode 1).
21910-N | AESC US, LLC | 173.185(b)(6) | To authorize the transportation in commerce of multiple lithium batteries in a UN 50H Large Packaging. (mode 1).
21915-N | Diversey, Inc | 173.29(a), 173.150(b)(2), 173.154(b)(1) | To authorize the transportation in commerce of emptied containers with a maximum capacity of 2.5 liters of hazardous materials to be shipped by ground only under the limited quantity exception solely for recycling. (modes 1, 2).
21919-N | Dynisco LLC | 172.400(a), 172.400(a)(1), 172.200(a), 172.101(a) | To authorize the transportation of pressure transducers that contain very small amounts of sodium potassium alloy (NAK). (modes 4, 5).
21920-N | L3Harris Technologies, Inc | 173.302 | To authorize the transportation in commerce of certain gases in non-DOT specification pressure vessels, which will be used in space vehicles. (mode 1).
21921-N | O'Bryan Barrel Company, Inc | 178.601(e), 178.603, 178.605, 178.606 | To authorize UN 1A1 and UN 1A2 steel drums that have not been periodically retested to be used for the transportation in commerce of the hazardous materials identified in the special permit. (modes 1, 2, 3, 4, 5).
21922-N | Archer Aviation Inc | 172.101(j), 173.185(e) | To authorize the transportation in commerce of prototype lithium batteries exceeding 35 kg via air. (mode 4).

[FR Doc. 2025-00858 Filed 1-15-25; 8:45 am]

BILLING CODE 4910-60-P